DEPARTMENT OF HEALTH AND HUMAN SERVICES

Office of the Secretary

White House Commission on Complementary and Alternative Medicine Policy; Notice of Meeting

Pursuant to Section 10(a) of the Federal Advisory Committee Act, as amended (5 U.S.C. Appendix 2), notice is given of a meeting of the White House Commission on Complementary and Alternative Medicine Policy.

The meeting will be open to the public, with attendance limited to space available. Individuals who plan to attend and need special assistance, such as sign language interpretation or other reasonable accommodations, should notify the Contact Person listed below in advance of the meeting.

The purpose of the meeting is to convene the Commission to receive testimony from invited speakers and organizations interested in the subject of federal policy regarding complementary and alternative medicine. The major focus of the meeting is on the access to and delivery of complementary and alternative (CAM) services: Use, effectiveness, and delivery systems. Comments received at the meeting may be used by the Commission to prepare the Report to the President as required by the Executive Order.

Comments should focus on the Access and Delivery of Complementary and Alternative Medicine Services: Use, Effectiveness, and Delivery Systems. Issues to be discussed include the following: Utilization of CAM Services; Access and Delivery of CAM Services; Issues in Integrating the Delivery of CAM Services; Patient Perspectives on the Use of CAM Services; Meeting Public Needs—Public and Private Sectors Delivery Systems; and Novel Systems of CAM Services Delivery. Discussion also may focus on the following questions:

(1) Do patients and health care providers have ready access to CAM practices and interventions?

(2) How can access to safe and effective CAM practices and interventions be improved?

Name of Committee: The White House Commission on Complementary and Alternative Medicine Policy.

Date: December 4-5, 2000.

Time: December 4—9:15 a.m.-6:00 p.m.; December 5—8:00 a.m.-4:00 p.m.

Place: Hubert H. Humphrey Building, Room 800, 200 Independence Avenue, S.W., Washington, D.C. 20201.

Contact Persons: Michele M. Chang, CMT, MPH, Executive Secretary, or Stephen C. Groft, Pharm.D., Executive Director, 6701 Rockledge Drive, Room 1010, MSC 7707, Bethesda, MD 20817-7707, Phone: (301) 435-7592, Fax: (301) 480-1691, E-mail: WHCCAMP@mail.nih.gov.

SUPPLEMENTARY INFORMATION: The President established the White House Commission on Complementary and Alternative Medicine Policy on March 7, 2000, by Executive Order 13147. The mission of the White House Commission on Complementary and Alternative Medicine Policy is to provide a report, through the Secretary of the Department of Health and Human Services, on legislative and administrative recommendations for assuring that public policy maximizes the benefits of complementary and alternative medicine to Americans.

Public Participation

Oral statements by the public will be provided on December 4, from about 1:30 p.m.-2:30 p.m. (Time approximate). Members of the public who wish to present oral comment may register by calling 1-800-953-3298 or by accessing https://safe2.sba.com/whccamp/index.cfm or the website of the Commission at http://whccamp.hhs.gov no later than November 27, 2000.

Oral comments will be limited to five minutes; three minutes of oral presentation and two minutes to respond to questions by Commission members. Individuals who register to speak will be assigned in the order in which they registered. Due to time constraints, only one representative from each organization will be allotted time for oral testimony. The number of speakers and the time allotted may also be limited by the number of registrants. All requests to register should include the name, address, telephone number, and business or professional affiliation of the interested party, and should indicate the area of interest or question (as described above) to be addressed. When mailing or faxing written comments provide, if possible, an electronic version on diskette.

Any person attending the meeting who has not registered to speak in advance of the meeting will be allowed to make a brief oral statement during the time set aside for public comment if time permits, and at the chairperson's discretion. Individuals unable to attend the meeting, or any interested parties, may send written comments by mail, fax, or electronically to the staff office of the Commission for inclusion in the public record.

Because of the need to obtain the views of the public on these issues as soon as possible and because of the early deadline for the report required of the Commission, this notice is being provided at the earliest possible time.

Dated: November 17, 2000.
LaVerne Y. Stringfield,
Director, Office of Federal Advisory Committee Policy.

[FR Doc. 00-30175 Filed 11-27-00; 8:45 am]

BILLING CODE 4140-01-M